DEPARTMENT OF JUSTICE

Drug Enforcement Administration

21 CFR Part 1308

[Docket No. DEA-269N]

Schedules of Controlled Substances: Placement of Embutramide Into Schedule III; Extension of Comment Period

AGENCY: Drug Enforcement Administration (DEA), Department of Justice.

ACTION: Notice of proposed rulemaking; extension of comment period.

SUMMARY: The Drug Enforcement Administration (DEA) is extending the comment period and time to request a hearing on the Federal Register Notice of proposed rulemaking entitled “Schedules of Controlled Substances: Placement of Embutramide into Schedule III” published on July 29, 2005 (70 FR 43809).

DATES: The period for public comment that was to close on August 29, 2005, will be extended to September 28, 2005.

ADDRESSES: To ensure proper handling of comments, please reference “Docket No. DEA-269P” on all written and electronic correspondence. Written comments being sent via regular mail should be sent to the Deputy Administrator, Drug Enforcement Administration, Washington, DC 20537, Attention: DEA Federal Register Representative/ODL. Written comments sent via express mail should be sent to the Deputy Administrator, Drug Enforcement Administration, Attention: DEA Federal Register Representative/ODL, 2401 Jefferson Davis Highway, Alexandria, VA 22301. Comments may be directly sent to DEA electronically by sending an electronic message to dea.diversion.policy@usdoj.gov. Comments may also be sent electronically through http://www.regulations.gov using the electronic comment form provided on that site. An electronic copy of this document is also available at the http://www.regulations.gov Web site. DEA will accept electronic comments containing MS Word, WordPerfect, Adobe PDF, or Excel file formats only. DEA will not accept any file format other than those specifically listed here.

FOR FURTHER INFORMATION CONTACT: Christine A. Sannerud, Ph.D., Chief, Drug and Chemical Evaluation Section, Drug Enforcement Administration, Washington, DC 20537, Telephone: (202) 307-7183.

SUPPLEMENTARY INFORMATION: DEA published a Notice of Proposed Rulemaking (70 FR 43809) proposing the placement of embutramide into Schedule III of the Controlled Substances Act (CSA). The proposed scheduling action is based on a scientific and medical evaluation and recommendation by the Department of Health and Human Services and an evaluation of this and other information by DEA. On August 22, 2005, DEA received a request for an extension of the period in which to comment and request a hearing. The requestor indicated that the additional time is necessary to review the scientific articles and other information cited by DEA in support of its scheduling proposal. Upon consideration of this request, a thirty day extension of the time to comment and request a hearing is granted. This allows sufficient time for interested persons to evaluate and consider all relevant information and respond accordingly. Therefore, the comment period and time to request a hearing is extended to September 28, 2005. Comments must be received by the DEA on or before this date.

Dated: August 24, 2005.
Michele M. Leonhart,
Deputy Administrator.

[FR Doc. 05-17163 Filed 8-26-05; 8:45 am]

BILLING CODE 4410-09-P